DEPARTMENT OF THE TREASURY

Internal Revenue Service

Proposed Collection; Comment Request for Form 1024-A; Extension of Comment Period

AGENCY: Internal Revenue Service (IRS), Treasury.

ACTION: Notice and request for comments; extension of comment period.

SUMMARY: This document extends the comment period for a notice and request for comments that was published in the Federal Register on Monday, August 28, 2017. The notice and request for comments relates to the Application for Recognition of Exemption Under Section 501(c)(4) of the Internal Revenue Code.

DATES: The comment period for the notice and request for comments published on August 28, 2017 (82 FR 40228), is extended to November 28, 2017.

ADDRESSES: Direct all written comments to L. Brimmer, Internal Revenue Service, Room 6526, 1111 Constitution Avenue NW., Washington, DC 20224.

FOR FURTHER INFORMATION CONTACT: Requests for additional information or copies of the form and instructions should be directed to LaNita Van Dyke at (202) 317-6009, Internal Revenue Service, Room 6526, 1111 Constitution Avenue NW., Washington, DC 20224, or through the Internet at Lanita.VanDyke@irs.gov.

SUPPLEMENTARY INFORMATION: A notice and request for comments that appeared in the Federal Register on Monday, August 28, 2017 (82 FR 40228) announced that written comments are to be received by October 23, 2017. In order to provide the public with a sufficient opportunity to submit comments, the due date to receive written comments has been extended to Tuesday, November 28, 2017.

Approved: October 12, 2017.
L. Brimmer,
Senior Tax Analyst.

[FR Doc. 2017-22596 Filed 10-16-17; 4:15 pm]

BILLING CODE 4830-01-P